DEPARTMENT OF THE INTERIOR

Fish and Wildlife Service

Availability of an Application for an Incidental Take Permit and Receipt of a Habitat Conservation Plan for the American Bald Eagle, Gaston County, NC

AGENCY: Fish and Wildlife Service, Interior.

ACTION: Notice.

SUMMARY: Pinsto, Inc. (Applicant) has made an application for an incidental take permit (ITP) from the Fish and Wildlife Service (Service) pursuant to Section 10(a)(1)(B) of the Endangered Species Act of 1973 (16 U.S.C. 1531 et seq.), as amended. The proposed ITP would allow take of the American bald eagle (Haliaeetus leucocephalus), a federally listed threatened species, incidental to residential development. The permit would authorize take of American bald eagles at an existing nest site located on the Applicant's property and would authorize take of American bald eagles associated with any future nests that might occur on the property. Destruction of the nest or the tree in which the nest is located is not requested by the Applicant. Rather, the proposed incidental take will occur as the result of harm and harassment to the eagles resulting from residential construction activities surrounding the nest.

As described in the Applicant's habitat conservation plan (HCP), impacts will be minimized and mitigated by altering the Applicant's infrastructure plans to come no closer than 150 feet to the nest. The Applicant has established and will file a set of use restrictions with the proposed subdivision plat which are designed to minimize disturbance to the eagles. These restrictions would (1) protect a wooded area immediately surrounding the nest tree and (2) minimize any outdoor construction activities during the nesting season. The HCP is further described in the SUPPLEMENTARY INFORMATION section below.

We have evaluated the application and project area and determined that the HCP is a “low-effect” HCP involving minor or negligible effects to the American bald eagle and other environmental resources. As provided by the Department of Interior's Manual (516 DM2, Appendix 1 and 516 DM6, Appendix 1) for implementing the National Environmental Policy Act (NEPA), this low-effect HCP qualifies as a categorical exclusion and does not require the preparation of an environmental assessment (EA) or environmental impact statement (EIS). As a categorical exclusion, according to NEPA regulations (40 CFR 1508.4), low-effect HCPs do not individually or cumulatively have a significant effect on the human environment.

We also announce the availability of the HCP and our determination that a Categorical Exclusion is appropriate for the ITP application. Copies of the HCP and the Service's supporting documentation may be obtained by making a written request to our Regional Office (see ADDRESSES). Our final decisions on whether the HCP is a low-effect plan and whether to issue the requested ITP will be made no sooner than 30 days from the date of this notice. This notice is provided pursuant to Section 10 of the Endangered Species Act and NEPA regulations (40 CFR 1506.6).

We specifically request information, views, and opinions from the public via this Notice on the issuance of the requested ITP. Further, we specifically solicit information regarding the adequacy of the HCP as measured against the Service's ITP issuance criteria found in 50 CFR parts 13 and 17.

If you wish to comment, you may submit comments by any one of several methods. You may mail comments to the Service's Regional Office (see ADDRESSES). You may also comment via the internet to “lee_andrews@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to us at the office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

DATES: Written comments on the ITP application and HCP should be sent to the Service's Regional Office (see ADDRESSES) and should be received on or before May 9, 2001.

ADDRESSES: Persons wishing to review the application, HCP, and supporting documentation may obtain a copy by writing the Service's Southeast Regional Office, Atlanta, Georgia. Documents will also be available for public inspection by appointment during normal business hours at the Regional Office, 1875 Century Boulevard, Suite 200, Atlanta, Georgia 30345 (Attn: Endangered Species Permits), or Asheville Field Office, 160 Zillicoa Street, Asheville, North Carolina 28801 (Attn: Field Supervisor). Written data or comments concerning the application, HCP, or supporting documents should be submitted to the Regional Office. Requests for the documentation must be in writing to be processed. Please reference permit number TE039993-0 in such comments, or in requests of the documents discussed herein.

FOR FURTHER INFORMATION CONTACT: Mr. Lee Andrews, Regional Permit Coordinator, (see ADDRESSES above), telephone: 404/679-7217; or Mr. Mark Cantrell, Fish and Wildlife Biologist, Asheville, North Carolina Field Office, (see ADDRESSES above), telephone 828/258-3939, Ext. 227.

SUPPLEMENTARY INFORMATION: The bald eagle below the 40th parallel was listed as endangered in 1967 and received protection under the Act. Due to efforts to protect the bald eagle and its habitat, population reintroduction programs, and the banning of DDT, its population has steadily increased. The bald eagle was reclassified as threatened throughout the continental United States in July 1995 (60 FR 36000-36010). The bald eagle is now being considered for delisting (64 FR 36454-36464). The range-wide status of the American bald eagle was discussed in detail in the proposed rule to remove the bald eagle from the Federal List of Endangered and Threatened Wildlife and Plants (64 FR 36454-36464).

Under section 9 of the Act and its implementing regulations, “taking” of endangered and threatened wildlife is prohibited. However, the Service, under limited circumstances, may issue permits to take such wildlife if the taking is incidental to and not the purpose of otherwise lawful activities. The Applicant has prepared a HCP as required for the ITP application. The Applicant intends to develop a residential subdivision consisting of 12 lots on 13 acres. The biological goal of the HCP is to avoid harm or injury to the bald eagles and their nest to the maximum extent practicable and to retain the existing eagles within their occupied territory. To avoid, minimize, and mitigate impacts, the Applicant will establish an open space area of 3.087 acres, which is equivalent to the 150-foot radius buffer, adjacent and contiguous with the nest and establish use restrictions on the lots surrounding the nest. These use restrictions will limit outdoor activities within the subdivision during the nesting season. We expect these efforts to minimize potential effects of human activities on bald eagles that may use the nest. The ITP will authorize incidental take in the form of harm and harassment associated with the disturbance and modification of the habitat surrounding the nest. To help us evaluate the biological effect of the HCP on bald eagles, the Applicant will monitor the nesting activities of the bald eagles annually for the life of the permit, which is three years.

As stated above, we have determined that the HCP is a low-effect plan that is categorically excluded from further NEPA analysis and, therefore, does not require the preparation of an EA or EIS. Low-effect HCPs are those involving: (1) minor or negligible effects on federally listed or candidate species and their habitats, and (2) minor or negligible effects on other environmental values or resources. The Applicant's HCP qualifies for the following reasons:

1. Approval of the HCP would result in minor or negligible effects on the American bald eagle and its habitat. We do not anticipate significant direct or cumulative effects on this species as a result of this project.

2. Approval of the HCP would not have adverse effects on known geographic, historic or cultural sites, or involve unique or unknown environmental risks.

3. Approval of the HCP would not result in any significant adverse effects on public health or safety.

4. The project does not require compliance with Executive Order 11988 (Floodplain Management), Executive Order 11990 (Protection of Wetlands), or the Fish and Wildlife Coordination Act, nor does it threaten to violate a Federal, State, local, or tribal law or requirement imposed for protection of the environment.

5. Approval of the HCP would not establish a precedent for future action or represent a decision in principle about future actions with potentially significant environmental effects.

We will evaluate the HCP and public comments to determine whether the ITP application meets the requirements of section 10(a) of the Act. We will also evaluate whether the issuance of the ITP complies with section 7 of the Act by conducting an intra-Service section 7 consultation to ensure the ITP will not jeopardize the continued existence of this species. We will use the results of this consultation, in combination with the above findings, to determine if the requirements of the ITP are met and whether or not to issue the ITP.

Dated: March 27, 2001.
H. Dale Hall,
Acting Regional Director.

[FR Doc. 01-8618 Filed 4-6-01; 8:45 am]

BILLING CODE 4310-55-P